AGENCY FOR INTERNATIONAL DEVELOPMENT

Collaborating, Learning, and Adapting Case Competition Submission Forms

AGENCY: Agency for International Development (USAID).

ACTION: Notice of information collection; request for comment.

SUMMARY: The Office of Learning, Evaluation, and Research holds an annual Collaborating, Learning, and Adapting (CLA) Case Competition, wherein USAID partners and staff can submit examples of the way in which they have employed CLA approaches in their work. The submissions are posted online (available to the public), contributing to agency learning through these real-world experiences. As required by the Paperwork Reduction Act of 1995, as amended, USAID is soliciting comments for this collection.

DATES: Comments are due April 1, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Amy Koler, amkoler@usaid.gov, 202-257-0487

SUPPLEMENTARY INFORMATION: USAID, in accordance with the Paperwork Reduction Act of 1995 (PRA) (44 U.S.C. 3506(c)(2)(A)), provides the general public and federal agencies with an opportunity to comment on the proposed information collection. This proposed information collection was previously published in the Federal Register (88 FR 89654) on December 28, 2023. This notice allows for an additional 30 days for public comments.

Title of Collection: Collaborating, Learning, and Adapting Case Competition.

OMB Control Number: XXXXXX.

Type of Review: A new information collection.

Respondents/Affected Public: USAID's partners and USAID staff.

Total Estimated Number of Annual Responses: 85.

Total Estimated Number of Annual Burden Hours: 864.

Abstract: When a partner or USAID staff member decides to participate in the annual Collaborating, Learning, and Adapting (CLA) Case Competition, they must download the CLA Case Competition Submission Form from USAID's Learning Lab website. Through answering the six question form, they detail the context in which they were working, the specific manner in which they applied a CLA approach (or approaches) and describe the result of using that approach. The answers to these questions, plus a summary and a photo, constitute their submission to the competition. When they submit their case competition submission, they must also submit the CLA Case Competition Web Submission Form. This form captures additional information about the case, the organization submitting the form, and their experience with the case competition, as well as point of contact information. The CLA Case Competition Submission Form is shared with the public through USAID's Learning Lab website. The information from the CLA Case Competition Web Submission form is kept in a restricted online file.

USAID and the Office of Management and Budget are particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Tania Alfonso,
PLR/LER, Program Cycle Supervisory Team Lead, USAID.

[FR Doc. 2024-04347 Filed 2-29-24; 8:45 am]

BILLING CODE 6116-01-P